DEPARTMENT OF HEALTH AND HUMAN SERVICES

Office of the Secretary

Findings of Scientific Misconduct

AGENCY: Office of the Secretary, HHS.

ACTION: Notice.

SUMMARY: Notice is hereby given that the Office of Research Integrity (ORI), the Assistant Secretary for Health, and another Federal agency have taken final action in the following case:

Amy Beth Goldring, University of California at Los Angeles: Based on an investigation conducted by the University of California at Los Angeles (UCLA) and additional analysis conducted by the Office of Research Integrity (ORI) in its oversight review, ORI found that Ms. Goldring, former graduate student, Department of Psychology, UCLA, engaged in scientific misconduct by falsifying or fabricating data and statistical results for up to nine pilot studies on the impact of vulnerability on decision-making from Fall 2000 to Winter 2002 as a basis for her doctoral thesis research. The falsified or fabricated data was included in a manuscript submitted to Psychological Science, in National Institutes of Mental Health (NIMH), National Institutes of Health (NIH), grant application 1 R01 MH65238-01A1, and in NIMH, NIH, pre-doctoral training grant T32 MH15750.

Ms. Goldring has been debarred by another agency with joint jurisdiction for a period of three (3) years, beginning on May 13, 2005, and ending on May 13, 2008. On December 16, 2005, Ms. Goldring received a detailed explanation of ORI's proposed finding and was given thirty (30) days to contest the finding and the proposed administrative action. The thirty-day period has elapsed and ORI has not received a response. Accordingly, the following administrative action has been implemented for a period of three (3) years, beginning on January 18, 2006:

(1) Ms. Goldring is prohibited from serving in any advisory capacity to PHS, including but not limited to service on any PHS advisory committee, board, and/or peer review committee, or as a consultant.

FOR FURTHER INFORMATION CONTACT: Director, Division of Research Investigations, Office of Research Integrity, 1101 Wootton Parkway, Suite 750, Rockville, MD 20852, (240) 453-8800.

Chris B. Pascal,
Director, Office of Research Integrity.

[FR Doc. E6-2234 Filed 2-15-06; 8:45 am]

BILLING CODE 4160-17-P